DEPARTMENT OF ENERGY

Federal Energy Regulatory Commission

[Project No. 2485-071]

Northfield Mountain LLC; Notice Establishing Procedural Schedule for Licensing and Deadline for Submission of Final Amendments

(December 16, 2020)

Take notice that the following amended hydroelectric application has been filed with the Commission and is available for public inspection.

a. Type of Application: New Major License.

b. Project No.: 2485-071.

c. Date Material Amendments Filed: December 4, 2020.

d. Applicant: Northfield Mountain LLC (Northfield).

e. Name of Project: Northfield Mountain Pumped Storage Project.

f. Location: The existing project is located on the Connecticut River in Windham County, Vermont, Cheshire County, New Hampshire, and Franklin County, Massachusetts. There are no federal lands within the project boundary.

g. Filed Pursuant to: Federal Power Act, 16 U.S.C. 791(a)-825(r).

h. Applicant Contact: Mr. Justin Trudell, Vice President, Operations, Northfield Mountain LLC, 111 South Bedford Street, Suite 103, Burlington, MA 01803; (781) 653-4247 or justin.trudell@firstlightpower.com.

i. FERC Contact: Steve Kartalia, (202) 502-6131 or stephen.kartalia@ferc.gov.

j. This application is not ready for environmental analysis at this time.

k. FirstLight Hydro Generating Company (FirstLight) filed an application for a new license for the Northfield Mountain Pumped Storage Project No. 2485 (project) on April 29, 2016. In the license application, FirstLight stated that it could not develop a complete licensing proposal for the project since many of the required environmental studies were not complete as of April 29, 2016. FirstLight indicated that it would amend the license application after completing additional field work, consultation, and analyses on the required studies. On July 11, 2019, Commission staff approved the transfer of the license for the project from FirstLight to Northfield Mountain LLC. Northfield Mountain LLC filed material amendments to the final license application on December 4, 2020.

l. Project Description: The existing Northfield Mountain Pumped Storage Project consists of: (1) A 1-mile-long, 30-foot-wide, 30- to 140-foot-high main dam that includes: (i) An intake structure with two 7-foot-wide, 9-foot-high sluice gates and an 8-foot-diameter outlet pipe; and (ii) a 589-foot-long, 2-foot-diameter low-level outlet pipe; (2) a 425-foot-long, 25-foot-high dike (North dike); (3) a 2,800-foot-long, 45-foot-high dike (Northwest dike); (4) a 1,700-foot-long, 40-foot-long dike (West dike); (5) a 327-foot-long, 10- to 20-foot-high gravity dam; (6) an ungated 550-foot-long, 6-foot-high spillway structure with a 20-foot-long notch at an elevation of 1,005.0 feet National Geodetic Vertical Datum of 1929 (NGVD 29); (7) a 286-acre impoundment (upper reservoir) with a useable storage volume of 12,318 acre-feet between elevations 938.0 feet and 1,000.5 feet NGVD 29; (8) a 2,110-acre impoundment (lower reservoir or Turners Falls impoundment); (9) a 1,890-foot-long, 130-foot-wide intake channel with a 63-foot-long, 9-foot-high submerged check dam and two 6-foot-wide, 2.75-foot-high sluice gates and two 18-foot-wide stoplogs; (10) a 200-foot-long, 55-foot-wide, 80-foot-high pressure shaft; (11) an 853-foot-long, 31-foot-diameter penstock; (12) two 22-foot-diameter, 100- to 150-foot-long penstocks; (13) four 340-foot-long, 9.5- to 14-foot-diameter penstocks; (14) a 328-foot-long, 70-foot-wide powerhouse that contains four reversible pump turbine-generator units with a total installed capacity of 1,166.8 megawatts (MW); (15) four 25-foot-long, 11-foot-diameter draft tubes that transition to a 20-foot-long, 17-foot-diameter draft tube; (16) a 5,136-foot-long, 33-foot-wide, 31-foot-high horseshoe-shaped tailrace tunnel; (17) 35-foot-long, 40-foot-high trapezoid-shaped stoplogs with 74.3- to 99.5-foot-wide, 48-foot-high trashracks with 6-inch clear-bar spacing; (18) four 26-foot-long, 13.8-kilovolt (kV) generator leads that connect the turbine-generator units to four transformers; (19) two 3,000-foot-long, 345-kV transmission lines; and (20) (21) appurtenant facilities.

The existing Northfield Mountain Pumped Storage Project generally operates in pumping mode when electricity demand is low and generating mode when electricity demand is high. In the summer and winter, the project generally operates in a peaking mode in the morning and late afternoon. In the spring and fall, the project may operate in a peaking mode one or two times a day depending on electricity demand. The existing license requires maintaining the upper reservoir between elevations 938.0 feet and 1,000.5 feet NGVD 29 (i.e., a maximum reservoir drawdown of 62.5 feet). Average annual generation at the Northfield Mountain Project from 2011-2019 was 889,845 MW-hours, and average annual energy consumption for pumping from 2011 to 2019 was 1,189,640 MW-hours.

Northfield proposes three changes to the current project boundary: (1) Remove 0.2 acre of land associated with residential property; (2) remove 8.1 acre of land referred to as “Fuller Farm” that includes residential and agricultural structures; and (3) add 135.5 acres of land that includes recreation trails.

Northfield proposes to increase the maximum water surface elevation of the upper reservoir to 1,004.5 feet NGVD 29 and decrease the minimum water surface elevation of the upper reservoir to 920.0 feet NGVD 29 (i.e., a maximum reservoir drawdown of 84.5 feet) year-round. Northfield proposes to install a barrier net in the lower impoundment to prevent fish entrainment. Northfield also proposes to periodically dredge the upper reservoir and to construct new recreation access trails. The specific proposed changes are described in the amended application.

m. In addition to publishing the full text of this notice in the Federal Register, the Commission provides all interested persons an opportunity to view and/or print the contents of this notice, as well as other documents in the proceeding (e.g., license application) via the internet through the Commission's Home Page (http://www.ferc.gov) using the eLibrary link. Enter the docket number excluding the last three digits in the docket number field to access the document (P-2485). At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY).

n. You may also register online at https://ferconline.ferc.gov/FERCOnline.aspx to be notified via email of new filings and issuances related to this or other pending projects. For assistance, contact FERC Online Support.

o. Procedural Schedule: The application will be processed according to the following preliminary Hydro Licensing Schedule. Revisions to the schedule may be made as appropriate.

Milestone | Target date
Commission issues letters identifying application deficiencies and requesting additional information | January 2021.
Notice of Acceptance/Notice of Ready for Environmental Analysis | May 2021.
Filing of recommendations, preliminary terms and conditions, and fishway prescriptions | July 2021.
Reply Comments due | August 2021.

p. Final amendments to the application must be filed with the Commission no later than 30 days from the issuance date of the notice of ready for environmental analysis.

Dated: December 16, 2020.
Kimberly D. Bose,
Secretary.

[FR Doc. 2020-28247 Filed 12-21-20; 8:45 am]

BILLING CODE 6717-01-P